SOCIAL SECURITY ADMINISTRATION

20 CFR Parts 401, 402 and 403

RIN 0960-AE95

Testimony by Employees and the Production of Records and Information in Legal Proceedings: Delay of Effective Date

AGENCY: Social Security Administration, HHS.

ACTION: Final rules; delay of effective date.

SUMMARY: In accordance with the memorandum of January 20, 2001, from the Assistant to the President and Chief of Staff, entitled “Regulatory Review Plan,” published in the Federal Register on January 24, 2001, this action temporarily delays for 60 days the effective date of the rule entitled Testimony by Employees and the Production of Records and Information in Legal Proceedings, published in the Federal Register on January 12, 2001, 66 FR 2805. These rules concern, among other matters, procedures governing testimony by Social Security Administration (SSA) employees and the production of official records and information in legal proceedings to which SSA is not a party. To the extent that 5 U.S.C. section 553 applies to this action, it is exempt from notice and comment because it constitutes a rule of procedure under 5 U.S.C. section 553(b)(A). Alternatively, the agency's implementation of this rule without opportunity for public comment, effective immediately upon publication today in the Federal Register, is based on the good cause exceptions in 5 U.S.C. section 553(b)(B) and 553(d)(3), in that seeking public comment is impracticable, unnecessary and contrary to the public interest. The temporary 60-day delay in effective date is necessary to give agency officials the opportunity for further review and consideration of new regulations, consistent with the Assistant to the President's memorandum of January 20, 2001. Given the imminence of the effective date, seeking prior public comment on this temporary delay would have been impracticable, as well as contrary to the public interest in the orderly promulgation and implementation of regulations.

DATES: The effective date of Testimony by Employees and the Production of Records and Information in Legal Proceedings, published in the Federal Register on January 12, 2001 at 66 FR 2805, is delayed for 60 days, from February 12, 2001 to a new effective date of April 13, 2001.

FOR FURTHER INFORMATION CONTACT: For further information specifically about this final rule, contact Brad Howard, Attorney, Office of General Law, Office of the General Counsel, Room 617 Altmeyer Building, 6401 Security Boulevard, Baltimore, MD 21235-6401, (410) 966-1817. For information about eligibility or filing for benefits, call our national toll-free number, 1-800-772-1213 or TTY 1-800-325-0778, or visit our Internet web site, Social Security Online, www.ssa.gov.

Dated: February 5, 2001.
William A. Halter,
Acting Commissioner of Social Security.

[FR Doc. 01-3573 Filed 2-9-01; 8:45 am]

BILLING CODE 4191-02-U